ENVIRONMENTAL PROTECTION AGENCY

[EPA-HQ-OPP-2016-0108; FRL-9955-33-OEI]

Information Collection Request Submitted to OMB for Review and Approval; Comment Request; Notice of Supplemental Distribution of a Registered Pesticide Product

AGENCY: Environmental Protection Agency (EPA).

ACTION: Notice.

SUMMARY: The Environmental Protection Agency has submitted an information collection request (ICR), “Notice of Supplemental Distribution of a Registered Pesticide Product” (EPA ICR No. 0278.12, OMB Control No. 2070-0044) to the Office of Management and Budget (OMB) for review and approval in accordance with the Paperwork Reduction Act (44 U.S.C. 3501 et seq.). This is a proposed extension of the ICR, which is currently approved through November 30, 2016. Public comments were previously requested via the Federal Register (81 FR 19172) on April 4, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 3, 2017.

ADDRESSES: Submit your comments, referencing Docket ID Number EPA-HQ-OPP-2016-0108, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Jeffrey Bryan, Field and External Affairs Division (7506P), Office of Pesticide Programs, Environmental Protection Agency, 1200 Pennsylvania Ave. NW., Washington, DC 20460-0001; telephone number: (703) 347-8782; email address: bryan.jeffrey@epa.gov.

SUPPLEMENTARY INFORMATION: Supporting documents which explain in detail the information that the EPA will be collecting are available in the public docket for this ICR. The docket can be viewed online at http://www.regulations.gov or in person at the EPA Docket Center, WJC West, Room 3334, 1301 Constitution Ave. NW., Washington, DC. The telephone number for the Docket Center is 202-566-1744. For additional information about EPA's public docket, visit http://www.epa.gov/dockets.

Abstract: This information collection activity provides the EPA with notification of supplemental registration of distributors of pesticide products. EPA is responsible for the regulation of pesticides as mandated by the Federal Insecticide, Fungicide and Rodenticide Act (FIFRA), as amended. Section 3(e) of FIFRA (see 7 U.S.C. 136a(e), allows pesticide registrants to distribute or sell a registered pesticide product under a different name instead of or in addition to the name under the original registration. Such distribution and sale is termed “supplemental distribution” and the product is termed a “distributor product.” EPA requires the pesticide registrant to submit a supplemental statement (EPA Form 8570-5, Notice of Supplemental Distribution of a Registered Pesticide Product) when the registrant has entered into an agreement with a second company that will distribute the registrant's product under the second company's name and product name.

Burden statement: The total estimated annual respondent paperwork burden to comply with this information collection activity is 603 hours, or about 19 minutes per response. This estimate includes the time needed to review instructions; utilize technology and systems for the purposes of collecting, validating, and verifying information, processing and maintaining information, and disclosing and providing information; adjust the existing ways to comply with any previously applicable instructions and requirements; train personnel to respond to a collection of information; search existing data sources; complete and review the collection of information; and transmit or otherwise disclose the information.

Form Numbers: EPA Form 8750-5.

Respondents/affected entities: 1885.

Respondent's obligation to respond: This information is required to be submitted pursuant to Section 3(e) of FIFRA, as amended. Regulations pertaining to supplemental distribution of pesticide products are contained in Title 40 CFR part 152.132.

Estimated number of respondents: 1885.

Frequency of response: On occasion.

Total estimated burden: 603 hours (per year). Burden is defined at 5 CFR 1320.03(b).

Total estimated cost: $54,463 (per year), includes $0.00 annualized capital or operation & maintenance costs.

Changes in the Estimates: There is an overall increase of 216 hours in the total estimated respondent burden compared with the ICR currently approved by OMB. This increase is due to the increase in the number of applications the Agency expects to receive in the next 3 years. EPA had expected to receive about 1,451 notice submissions annually over the past three years. Based on the number of submissions received annually over that period, the Agency now expects to receive about 1,885 notice submissions annually over the next 3 years. This change is an adjustment to reflect the observed annual increase in submissions.

Courtney Kerwin,
Director, Regulatory Support Division.

[FR Doc. 2016-28882 Filed 11-30-16; 8:45 am]

BILLING CODE 6560-50-P